DEPARTMENT OF ENERGY

Federal Energy Regulatory Commission

[Project No. 2088-068]

South Feather Water and Power Agency; Notice of Intent To Prepare a Supplemental Environmental Impact Statement

On March 26, 2007, South Feather Water and Power Agency (South Feather) filed an application for a new license for the existing South Feather Power Project FERC No. 2088. The project is located on the South Fork Feather River, Lost Creek, and Slate Creek in Butte, Yuba, and Plumas Counties, California and occupies 1,977.12 acres of federal land administered by Plumas National Forest and 10.57 acres of federal land administered by the U.S. Bureau of Land Management. The project is a water supply and power generating project consisting of four hydroelectric developments: Sly Creek, Woodleaf, Forbestown, and Kelly Ridge, which combined provide 117.3-megawatts of generating capacity and an average of 498,972 megawatt-hours of electricity annually.

On June 4, 2009, the Federal Energy Regulatory Commission (Commission) issued a final Environmental Impact Statement (EIS) for the project. Subsequently, South Feather entered into a Settlement Agreement with the California Department of Water Resources and the State Water Contractors, Incorporated, which modifies the proposed operation of the project's Kelly Ridge Powerhouse.¹ Additionally, the California State Water Resources Control Board (Water Board) filed a water quality certification for the project on November 30, 2018; ² South Feather filed an amendment to its license application on December 21, 2021, in which it proposes additional measures developed in consultation with the U.S. Fish and Wildlife Service (FWS) to protect the federally endangered Sierra Nevada yellow-legged frog; and the Forest Service filed revised final conditions under section 4(e) of the FPA on October 14, 2022.

¹ On December 13, 2018, South Feather filed the Settlement Agreement with the Commission.

² On June 28, 2020, the Commission determined that the Water Board waived its authority to issue a water quality certification for the project; therefore, the certification conditions are not considered mandatory under section 401 and the conditions are now considered recommendations under section 10(a) of the Federal Power Act (FPA).

To evaluate these filings made subsequent to the issuance of the final EIS as well as newly listed species under the Endangered Species Act, Commission staff intends to prepare a draft and final supplemental EIS in accordance with the National Environmental Policy Act. The supplemental EIS will describe and evaluate the effects of the proposed action and alternatives. For the resource areas not affected by any new and revised measures or new environmental information, the supplemental EIS will either include, or incorporate by reference, analyses from the final EIS.

With this notice, we are reinitiating informal consultation with the FWS under section 7 of the ESA and the joint agency regulations thereunder at 50 CFR part 402.

The draft supplemental EIS will be sent to all persons and entities on the Commission's service and mailing lists for the South Feather Power Project. Recipients will then have 60 days to review the draft supplemental EIS and file written comments with the Commission. All comments filed with the Commission on the final supplemental EIS will be considered in the Order taking final action on the license application. The application will be processed according to the following schedule. Revisions to the schedule may be made as appropriate.

Milestone | Target date
Draft Supplemental EIS issued | October 2023.
Comments due on Draft Supplemental EIS | December 2023.
Final Supplemental EIS issued | April 2024.

This notice informs all interested individuals, organizations, tribes, and agencies with environmental expertise and concerns, that: (1) the Commission staff has decided to prepare a supplemental EIS addressing the settlement and amendment application; and (2) the comments, recommendations, and terms and conditions already on file with the Commission on the application will be taken into account in the supplemental EIS.

Any questions regarding this notice may be directed to Quinn Emmering, the Commission's coordinator for the relicensing of the project, at (202) 502-6382 or at quinn.emmering@ferc.gov.

Dated: October 3, 2023.
Kimberly D. Bose,
Secretary.

[FR Doc. 2023-22700 Filed 10-13-23; 8:45 am]

BILLING CODE 6717-01-P